DEPARTMENT OF TRANSPORTATION

Federal Aviation Administration

Public Notice for Waiver of Aeronautical Land-Use Assurance

AGENCY: Federal Aviation Administration (FAA), DOT.

ACTION: Notice of intent of waiver with respect to land; Flying Cloud Airport, Minneapolis, Minnesota.

SUMMARY: The FAA is considering a proposal to change 4.53 acres of airport land from aeronautical use to non-aeronautical use and to authorize the lease of airport property located at Flying Cloud Airport, Minneapolis, Minnesota. The aforementioned land is not needed for aeronautical use. The property is located northeast of the airport's Gate H and south of Pioneer Trail. This parcel has been vacant since the 1950's with drainage ditches on three sides. The proposed use of the property is to lease the parcel for development of commercial/retail space.

DATES: Comments must be received on or before May 31, 2017.

ADDRESSES: Documents are available for review by appointment at the FAA Dakota-Minnesota Airports District Office, Nancy Nistler, Program Manager, 6020 28th Avenue South, Suite 102, Minneapolis, MN 55450 Telephone: (612) 253-4638/Fax: (612) 253-4611.

Written comments on the Sponsor's request must be delivered or mailed to: Nancy Nistler, Program Manager, Federal Aviation Administration, Dakota-Minnesota Airports District Office, 6020 28th Avenue South, Suite 102, Minneapolis, MN 55450 Telephone: (612) 253-4638/Fax: (612) 253-4611.

FOR FURTHER INFORMATION CONTACT: Nancy Nistler, Program Manager, Federal Aviation Administration, Dakota-Minnesota Airports District Office, 6020 28th Avenue South, Suite 102, Minneapolis, MN 55450 Telephone: (612) 253-4638/Fax: (612) 253-4611.

SUPPLEMENTARY INFORMATION: In accordance with section 47107(h) of Title 49, United States Code, this notice is required to be published in the Federal Register 30 days before modifying the land-use assurance that requires the property to be used for an aeronautical purpose.

The property is currently vacant, unimproved land maintained for compatible land use surrounding the airfield. The property was acquired by the Metropolitan Airports Commission in 1957-1958. The southeastern portion was acquired through the use of federal funds and the northwestern portion was purchased without the use of federal funds. The proposed non-aeronautical land use would be for compatible commercial/retail development, allowing the airport to become more self-sustaining. The airport will receive fair market value for the lease of this property.

The disposition of proceeds from the lease of the airport property will be in accordance with FAA's Policy and Procedures Concerning the Use of Airport Revenue, published in the Federal Register on February 16, 1999 (64 FR 7696).

This notice announces that the FAA is considering the release of the subject airport property at the Flying Cloud Airport, Minneapolis, Minnesota from its obligations to be maintained for aeronautical purposes. Approval does not constitute a commitment by the FAA to financially assist in the change in use of the subject airport property nor a determination of eligibility for grant-in-aid funding from the FAA.

Property Description: That part of the south half of the Southeast Quarter of Section 21, and that part of the north half of the Northeast Quarter of Section 28, Township 116 North, Range 22 West, Hennepin County, Minnesota, described as follows:

Commencing at the southeast corner of said Section 21; thence South 89 degrees 00 minutes 14 seconds West, assumed bearing, along the south line of said south half of the Southeast Quarter 1037.26 feet to a point on the southwesterly right of way line of Pioneer Trail, also known as Hennepin County State Aid Highway No. 1; thence North 57 degrees 43 minutes 08 seconds West along said right of way 25.45 feet; thence North 63 degrees 25 minutes 46 seconds West along said right of way 25.89 feet; thence northwesterly along said right of way 195.78 feet along a tangential curve, concave to the southwest center angle 00 degrees 59 minutes 01 seconds, radius 11,405.16 feet; thence North 64 degrees 24 minutes 47 seconds West along said right of way, tangent to said curve 326.10 feet; thence South 68 degrees 03 minutes 41 seconds West along said right of way 41.17 feet; thence South 24 degrees 58 minutes 15 seconds West 47.31 feet; thence southerly 83.43 feet along a tangential curve, concave to the east, central angle 47 degrees 19 minutes 37 seconds, radius 101.00 feet; thence southerly 118.21 feet along a reverse curve, concave to the west, central angle 47 degrees 18 minutes 52 seconds, radius 143.14 feet; thence South 24 degrees 57 minutes 30 seconds West, along tangent 134.18 feet; thence South 78 degrees 58 minutes 39 seconds East 607.83 feet; thence North 26 degrees 07 minutes 23 seconds East 224.82 feet to said southwesterly right of way line, thence North 63 degrees 25 minutes 46 seconds West along said right of way 7.57 feet; thence North 57 degrees 43 minutes 08 seconds West along said right of way 65.00 feet to the point of beginning.

Issued in Minneapolis, Minnesota, on April 17, 2017.
Andy Peek,
Manager, Dakota-Minnesota Airports District Office, FAA, Great Lakes Region.

[FR Doc. 2017-08752 Filed 4-28-17; 8:45 am]

BILLING CODE 4910-13-P